DEPARTMENT OF THE INTERIOR

Bureau of Land Management

DEPARTMENT OF AGRICULTURE

Forest Service

[LLOR930000.L51010000.ER0000.LVRWH09H0320.15XL5017AP; HAG15-0153]

Notice of Availability of the Jordan Cove Energy and Pacific Connector Gas Pipeline Projects Final Environmental Impact Statement and the Proposed Associated Land Management Plan Amendments, Oregon

AGENCY: Bureau of Land Management, Interior; Forest Service, USDA.

ACTION: Notice.

SUMMARY: In accordance with the National Environmental Policy Act of 1969, as amended, the Federal Land Policy and Management Act of 1976, as amended, and the National Forest Management Act of 1976, as amended, the Bureau of Land Management (BLM) and the U.S. Forest Service (USFS) are jointly announcing the availability of the Jordan Cove Energy and Pacific Connector Gas Pipeline (PCGP) Projects Final Environmental Impact Statement (EIS) and Proposed Land Management Plan amendments, and by this notice are announcing their availability.

DATES: BLM planning regulations state that any person who meets the conditions as described in the regulations may protest the BLM's Proposed Resource Management Plan (RMP) Amendments and/or USFS's Proposed Land and Resource Management Plan (LRMP) Amendments. A person who meets the conditions and files a protest must file the protest by November 27, 2015. The USFS has adopted the BLM's administrative review procedures as its objection process for this specific project.

ADDRESSES: Copies of the Jordan Cove Energy and PCGP Projects Final EIS have been sent to affected Federal, State, and local government agencies; affected tribes; and other stakeholders. Copies of the Proposed RMP Amendments/Final EIS are available for public inspection at the BLM district offices and the offices of the Forest Supervisors listed under SUPPLEMENTARY INFORMATION. Interested persons may also review the Proposed RMP Amendment/Final EIS on the Internet at www.ferc.gov under the Documents and Filings link. Enter the Federal Energy Regulatory Commission (FERC) docket number(s) (CP13-483 and/or CP13-492) to locate the specific documents. All protests must be in writing and mailed to one of the following addresses:

Regular Mail: BLM Director (210), Attention: Protest Coordinator, P.O. Box 71383, Washington, DC 20024-1383

Overnight Delivery: BLM Director (210), Attention: Protest Coordinator, 20 M Street SE., Room 2134LM, Washington, DC 20003

FOR FURTHER INFORMATION CONTACT: FERC Office of External Affairs at 866-208-FERC (3372), or on the FERC Web site (www.ferc.gov). On the FERC Web site, go to Documents and Filings and click on the eLibrary link. Then click on “General Search” and enter the docket number, excluding the last three digits in the field (i.e., CP13-492). For assistance, please contact FERC Online Support at FercOnlineSupport@ferc.gov or toll free at 866-208-3676 or, for TTY, contact 202-502-8659. The eLibrary link also provides access to the texts of formal documents issued by the FERC such as orders, notices, and rulemakings.

SUPPLEMENTARY INFORMATION: This NOA is specific to the BLM, the BOR and the USFS and provides notice that these agencies have participated as cooperating agencies with FERC in the preparation of the Jordan Cove Energy and PCGP Projects Final EIS. The FERC has been the lead Federal agency for the environmental analysis of the proposed Jordan Cove Energy and PCGP Projects.

The comprehensive Jordan Cove Energy and PCGP Projects Final EIS includes consideration of the proposed actions of the FERC and the cooperating agencies, including a BLM right-of-way (ROW) grant and the associated BLM RMP and USFS Land and Resource Management Plan (LRMP) amendments, collectively referred to as Land Management Plan (LMP) amendments. The proposed actions described in the Final EIS include a number of amendments to the BLM and the USFS LMPs for the BLM Coos Bay, Roseburg, and Medford Districts and the Klamath Falls Resource Area of the Lakeview District and the Umpqua, Rogue River, and Winema National Forests. In addition, the proposed action in the Final EIS includes the ROW grant across Federal lands managed by the BLM, the USFS, and the Bureau of Reclamation. The BOR will not need to amend any LMPs as a result of this project.

Following issuance of the Final EIS and resolution of any protests, the BLM and USFS will prepare Records of Decision regarding the proposed LMP amendments. The BLM, with concurrence from the USFS and the Bureau of Reclamation, will also prepare a Record of Decision regarding whether to grant or deny ROW grants across Federal lands. The BLM's ROW decision may be appealed under 43 CFR part 4.

In accordance with 36 CFR 219.17(b)(2), the deciding official for the USFS has elected to use the 1982 planning rule procedures to amend the USFS LRMPs as provided in the transition procedures of the 2000 planning rule. The 1982 planning rule procedures require the USFS to determine the significance of the proposed amendments or alternatives in accordance with national forest planning regulation 36 CFR 219.10(f) (1982 procedures). The USFS will use criteria in Forest Service Manual 1926.5 to make this determination of the significance of proposed LRMP amendments. The following amendments have been developed by the BLM and the USFS as part of the proposed action in the Final EIS:

Amendment of the BLM Coos Bay District, Roseburg District, Medford District, and Klamath Falls Resource Area of the Lakeview District RMPs and the Umpqua National Forest, Rogue River National Forest, and Winema National Forest LMPs

BLM/USFS-1—Applicable BLM RMPs and USFS LRMPs would be amended to exempt “certain known sites” within the area of the proposed PCGP Project from the Management Recommendations required by the 2001 “Record of Decision and Standards and Guidelines for Amendments to the Survey and Manage, Protection Buffer, and other Mitigation Measures Standards and Guidelines,” as modified by court order.

Amendment of the BLM Coos Bay District and Roseburg District RMPs

BLM-1—The Coos Bay District and Roseburg District RMPs would be amended to waive the requirements to protect occupied, suitable, and potential habitat for the Marbled Murrelet, as mapped by the BLM within the proposed PCGP Project area.

Amendments of BLM Roseburg District RMP

BLM-2—The Roseburg District RMP would be amended to exempt the PCGP Project from the requirement to retain habitat in “Known Owl Activity Centers” at three locations.

BLM-3—The Roseburg District RMP would be amended to change the designation of approximately 409 acres from the Matrix land allocation to the Late-Successional Reserve (LSR) land allocation in Sections 32 and 34, T. 29 1/2 S., R. 7 W., and Section 1, T. 30 S., R. 7 W., W.M., Oregon.

Amendment of BLM Coos Bay District RMP

BLM-4—The Coos Bay District RMP would be amended to change the designation of approximately 387 acres from the Matrix land allocation to the LSR land allocation in Sections 19 and 29, T. 28 S., R. 10 W., W.M., Oregon.

Amendments of the Rogue River National Forest LRMP

RRNF-2—The Rogue River National Forest LRMP would be amended to change the Visual Quality Objective (VQO) in the area where the PCGP Project corridor would cross the Big Elk Road at pipeline milepost 161.4 in Section 16, T. 37 S., R. 4 E., W.M., Oregon, from “foreground retention” to “foreground partial retention” and allow more time for amended visual quality objectives to be attained.

RRNF-3—The Rogue River National Forest LRMP would be amended to change the VQO in the vicinity where the PCGP Project corridor would cross the Pacific Crest Trail at pipeline milepost 167.84 in Section 32, T. 37 S., R. 5 E., W.M., Oregon, from “foreground partial retention” to “modification” and allow more time for amended VQOs to be attained.

RRNF-4—The Rogue River National Forest LRMP would be amended to allow more time to meet the VQO between the PCGP Project corridor mileposts 156.3 to 156.8 and 157.2 to 157.5 in Sections 11 and 12, T. 37 S., R. 3 E., W.M., Oregon. Standards and Guidelines for “Middleground Partial Retention” require that VQOs for a given location be achieved within one year of completion of the project. Approximately 0.8 miles or 9 acres of Middleground Partial Retention VQO visible at distances of 0.75 to 5 miles from State Highway 140 would be affected by this amendment.

RRNF-5—The Rogue River National Forest LRMP would be amended to allow the PCGP Project corridor to cross lands subject to the “restricted riparian management strategy” Standards and Guidelines. This would potentially affect approximately 2.5 acres of the PCGP Project corridor associated with one perennial stream crossing of the South Fork of Little Butte Creek at milepost 162.45 in Section 15, T. 37 S., R. 4 E., W.M., Oregon.

RRNF-6—The Rogue River National Forest LRMP would be amended to waive limitations on areas affected by detrimental soil conditions from displacement and compaction within the proposed PCGP Project corridor in all affected management areas.

RRNF-7—The Rogue River National Forest LRMP would be amended to change the designation of approximately 512 acres from the Matrix land allocation to the LSR land allocation in Section 32, T. 36 S., R. 4 E., W.M., Oregon.

Amendments of the Umpqua National Forest LRMP

UNF-1—The Umpqua National Forest LRMP would be amended to change the Standards and Guidelines for Fisheries to allow the removal of effective shading vegetation where perennial streams would be crossed by the PCGP Project corridor. This change would potentially affect an estimated three acres of shading vegetation at four perennial stream crossings in the East Fork of Cow Creek from pipeline mileposts 109 to 110 in Sections 16 and 21, T. 32 S., R. 2 W., W.M., Oregon.

UNF-2—The Umpqua National Forest LRMP would be amended to change prescriptions C2-II and C2-IV and to allow the PCGP Project corridor to cross Riparian Areas (i.e., Riparian Reserves) and run parallel to the East Fork of Cow Creek for approximately 0.1 mile between milepost 109.68 and 109.78 in Section 21, T. 32 S., R. 2 W., W.M., Oregon. This change would potentially affect approximately one acre of Riparian Reserve along the East Fork of Cow Creek.

UNF-3—The Umpqua National Forest LRMP would be amended to waive limitations on the area affected by detrimental soil conditions from displacement and compaction within the proposed PCGP Project corridor. Standards and Guidelines for Soils requires that not more than 20 percent of the project area have detrimental compaction, displacement, or puddling after completion of a project.

UNF-4—The Umpqua National Forest LRMP would be amended to change the designation of approximately 588 acres from the Matrix land allocation to the LSR 223 land allocation in Sections 7, 18, and 19, T. 32 S., R. 2 W., and Sections 13 and 24, T. 32 S., R. 3 W., W.M., Oregon.

Amendments of the Winema National Forest LRMP

WNF-1—The Winema National Forest LRMP would be amended to change the Standards and Guidelines for Management Area 3 (MA-3) to allow for development of the 95-foot-wide PCGP Project corridor in MA-3 from the Forest Boundary in Section 32, T. 37 S., R. 5 E., to the Clover Creek Road corridor in Section 4, T. 38 S, R. 5 E., W.M., Oregon. Standards and Guidelines for MA-3 state that the area is currently an avoidance area for new utility corridors. This amendment would apply to a portion of the proposed PCGP Project corridor that would be approximately 1.5 miles long and occupy approximately 17 acres.

WNF-2—The Winema National Forest LRMP would be amended to allow more time to achieve the VQO where the PCGP Project corridor would cross the Dead Indian Memorial Highway at approximately milepost 168.84 in Section 33, T. 37 S., R. 5 E., W.M., Oregon.

WNF-3—The Winema National Forest LRMP would be amended to allow more time to meet the VQO for Scenic Management, Foreground Partial Retention, where the PCGP Project corridor would be adjacent to the Clover Creek Road from approximately milepost 170 to 175 in Sections 2, 3, 4, 11 and 12, T. 38 S., R. 5 E., and Sections 7, 17 and 18, T. 38 S., R. 6 E., W.M., Oregon. This amendment would be applicable to approximately 50 acres of the proposed PCGP Project corridor.

WNF-4—The Winema National Forest LRMP would be amended to waive restrictions on detrimental soil conditions from displacement and compaction within the proposed PCGP Project corridor in all affected management areas.

WNF-5—The Winema National Forest LRMP would be amended to waive restrictions on detrimental soil conditions from displacement and compaction within the proposed PCGP Project corridor within Management Area 8, Riparian Area (MA-8). This amendment would apply to approximately 0.5 mile or an estimated 9.6 acres of MA-8. Standards and Guidelines for Soil and Water, MA-8 require that not more than 10 percent of the total riparian zone in an activity area be in a detrimental soil condition upon the completion of a project.

Copies of the Jordan Cove Energy and PCGP Projects Final EIS are available for inspection in the BLM Coos Bay, Roseburg, and Medford District offices; the Klamath Falls Resource Area of the Lakeview District office; and at the offices of the Forest Supervisors for the Rogue River, Umpqua, and Winema National Forests.

Before including your phone number, email address, or other personal identifying information in your protest, you should be aware that the entire text of your comments—including your personal identifying information—may be made publicly available at any time. While you can ask us in your protest to withhold your personal identifying information from public review, we cannot guarantee that we will be able to do so.

Authority: 40 CFR 1506.6, 40 CFR 1506.10, 43 CFR 1610.2.

Jerome E. Perez,
State Director, Oregon/Washington.
Alice Carlton,
Forest Supervisor, Umpqua National Forest.

[FR Doc. 2015-27377 Filed 10-27-15; 8:45 am]

BILLING CODE 4310-33-P